DEPARTMENT OF JUSTICE

Notice of Lodging of Proposed Consent Decree Under the Formerly Utilized Sites Remedial Action Program and the Comprehensive Environmental Response, Compensation, and Liability Act

On November 21, 2012, the Department of Justice lodged a proposed Consent Decree with the United States District Court for the District of Massachusetts in the lawsuit entitled United States v. Texas Instruments Incorporated, Civil Action No. 1:12-cv-12175.

The United States filed this lawsuit under the Formerly Utilized Sites Remedial Action Program and the Comprehensive Environmental Response, Compensation, and Liability Act (“CERCLA”). The United States' complaint seeks to recover from defendant Texas Instruments, Inc. response costs incurred by the United States in connection with the release of radiological waste at the Shpack Landfill Superfund Site located in the Town of Norton, Massachusetts and the City of Attleboro, Massachusetts. Pursuant to the Consent Decree resolving the lawsuit, Texas Instruments, Inc. agrees to pay $15 million of the United States' response costs.

The publication of this notice opens a period for public comment on the Consent Decree. Comments should be addressed to the Assistant Attorney General, Environment and Natural Resources Division, and should refer to United States v. Texas Instruments Incorporated, D.J. Ref. No. 90-11-2-08360/1. All comments must be submitted no later than thirty (30) days after the publication date of this notice. Comments may be submitted either by email or by mail:

To submit comments: | Send them to:
By email | pubcomment-
| ees.enrd@usdoj.gov.
By mail | Assistant Attorney General, U.S. DOJ-ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ-ENRD, P.O. Box 7611, Washington, DC 20044-7611.

Please enclose a check or money order for $6.00 (25 cents per page reproduction cost) payable to the United States Treasury.

Ronald Gluck,
Assistant Section Chief, Environmental Enforcement Section, Environment and Natural Resources Division.

[FR Doc. 2012-28743 Filed 11-26-12; 8:45 am]

BILLING CODE 4410-15-P